POSTAL SERVICE

Notice of Availability of Draft Environmental Impact Statement for Purchase of Next Generation Delivery Vehicles

AGENCY: Postal Service.

ACTION: Notice of availability of draft environmental impact statement.

SUMMARY: Pursuant to the requirements of the National Environmental Policy Act of 1969 (NEPA), its implementing procedures at 39 CFR 775, and the President's Council on Environmental Quality Regulations (40 CFR parts 1500-1508), the U.S. Postal Service announces availability of the Draft Environmental Impact Statement (DEIS) to purchase over 10 years 50,000 to 165,000 purpose-built, right-hand-drive vehicles—the Next Generation Delivery Vehicle (NGDV)—to replace existing delivery vehicles nationwide that are approaching the end of their service life. While the Postal Service has not yet determined the precise mix of the powertrains in the new vehicles to be purchased, under the Proposed Action, at least ten percent of the NGDVs would have battery electric (BEV) powertrains, with the remainder being internal combustion (ICE). The DEIS evaluates the environmental impacts of the Proposed Action, as well as two BEV and ICE commercial off-the-shelf (COTS) vehicle alternatives and the “no action” alternative. The Postal Service is soliciting comments on the DEIS during a 45-day public comment period.

DATES: Comments should be received no later than October 12, 2021. The Postal Service will also publish a Notice of Availability to announce the availability of the Final EIS.

ADDRESSES: Interested parties may view the DEIS at http://uspsngdveis.com/. Interested parties may mail or deliver written comments, containing the name and address of the commenter, to: Mr. Davon Collins, Environmental Counsel, United States Postal Service, 475 L'Enfant Plaza SW, Office 6606, Washington, DC 20260-6201, or at NEPA@usps.gov. Note that comments sent by mail may be subject to delay due to federal security screening. Faxed comments are not accepted. All submitted comments and attachments are part of the public record and subject to disclosure. Do not enclose any material in your comments that you consider to be confidential or inappropriate for public disclosure.

You may inspect and photocopy all written comments, by appointment only, at USPS Headquarters Library, 475 L'Enfant Plaza SW, 11th Floor North, Washington, DC 20260 by calling 202-268-2906.

Joshua J. Hofer,
Attorney, Ethics and Legal Compliance.

[FR Doc. 2021-18302 Filed 8-25-21; 8:45 am]

BILLING CODE 7710-12-P